DEPARTMENT OF HOMELAND SECURITY

Federal Emergency Management Agency

Federal Radiological Preparedness Coordinating Committee Meeting

AGENCY: Federal Emergency Management Agency (FEMA), Emergency Preparedness and Response Directorate, Department of Homeland Security (DHS).

ACTION: Announcement of meeting.

SUMMARY: The Federal Radiological Preparedness Coordinating Committee (FRPCC) advises the public that the FRPCC will meet on October 20, 2004, in Washington, DC.

DATES: The meeting will be held on October 20, 2004, at 9 a.m.

ADDRESSES: The meeting will be held at DHS/FEMA Lobby Conference Center, 500 C Street, SW., DC.

FOR FURTHER INFORMATION CONTACT: Pat Tenorio, DHS/FEMA, 500 C Street, SW., Washington, DC 20472, telephone (202) 646-2870; fax (202) 646-4321; or e-mail pat.tenorio@dhs.gov.

SUPPLEMENTARY INFORMATION: The role and functions of the FRPCC are described in 44 CFR 351.10(a) and 351.11(a). The Agenda for the upcoming FRPCC meeting is expected to include: (1) Introductions, (2) Federal agencies' updates, (3) old business, (4) new business, and (5) business from the floor.

The meeting is open to the public, subject to the availability of space. Reasonable provision will be made, if time permits, for oral statements from the public of not more than five minutes in length. Any member of the public who wishes to make an oral statement at the October 20, 2004, FRPCC meeting should request time, in writing, from W. Craig Conklin, FRPCC Chair, DHS/FEMA, 500 C Street, SW., Washington, DC 20472. The request should be received at least five business days before the meeting. Any member of the public who wishes to file a written statement with the FRPCC should mail the statement to: Federal Radiological Preparedness Coordinating Committee, c/o Pat Tenorio, DHS/FEMA, 500 C Street, SW., Washington, DC 20472.

Dated: September 8, 2004.
W. Craig Conklin,
Chief, Nuclear and Chemical Hazards Branch, Preparedness Division, Department of Homeland Security.

[FR Doc. 04-20610 Filed 9-10-04; 8:45 am]

BILLING CODE 9110-21-P